DEPARTMENT OF TRANSPORTATION

National Highway Traffic Safety Administration

Denial of Motor Vehicle Defect Petition, DP03-005

AGENCY: National Highway Traffic Safety Administration (NHTSA), Department of Transportation.

ACTION: Denial of petition for a defect investigation.

SUMMARY: This notice sets forth the reasons for the denial of a petition submitted to NHTSA under 49 U.S.C. 30162, requesting that the agency investigate an alleged defect with respect to the brake rotors on model year (MY) 2002 Nissan Xterra vehicles. The petition is identified as DP03-005.

FOR FURTHER INFORMATION CONTACT: Mr. Jonathan White, Office of Defects Investigation (ODI), NHTSA, 400 Seventh Street, SW, Washington, DC 20590. Telephone: (202) 366-5226.

SUPPLEMENTARY INFORMATION: Mr. Kent Jones of Kernersville, NC, submitted a petition to NHTSA by e-mail dated July 1, 2003, requesting NHTSA to investigate the brake rotors on MY 2002 Nissan Xterra vehicles. The petitioner alleged that the brake rotors in these vehicles overheat and warp from normal usage (alleged defect).

A review of ODI's database for complaints regarding MY 2001 through MY 2003 Nissan Xterra vehicles identified only two reports related to brake rotor warping; one for a MY 2001 and one for a MY 2002. The complaint for the MY 2002 Nissan Xterra was reported by the petitioner.

Brake rotor warping can result in brake pulsation and shaking when the brake is applied. Brake pulsation, tire or suspension vibration, and similar conditions, while an obvious annoyance to the driver, generally do not cause a driver to lose control of a vehicle. Furthermore, even if left uncorrected, any potential increase in stopping distance will be negligible. Therefore, this condition does not normally constitute a safety defect, even if it occurs with far more frequency.

In view of the foregoing, it is unlikely that NHTSA would issue an order for the notification and remedy of an alleged safety-related defect as defined by the petitioner in MY 2002 Nissan Xterra vehicles at the conclusion of an investigation. Therefore, in view of the need to allocate and prioritize NHTSA's limited resources to best accomplish the agency's safety mission, the petition is denied.

Authority: 49 U.S.C. 30162(d); delegations of authority at CFR 1.50 and 501.8.

Issued on: July 29, 2003.
Kenneth N. Weinstein,
Associate Administrator for Enforcement.

[FR Doc. 03-19750 Filed 8-1-03; 8:45 am]

BILLING CODE 4910-59-P